DEPARTMENT OF TRANSPORTATION

Surface Transportation Board

[STB Finance Docket No. 34658]

The Alaska Railroad Corporation—Petition for Exemption To Construct and Operate a Rail Line Between Eielson Air Force Base (North Pole) and Fort Greely (Delta Junction), AK

AGENCY: Surface Transportation Board, DOT.

ACTION: Correction of Due Date for Comments on Draft Scope of Study for Environmental Impact Statement and Potential Environmental Effects of the Project.

SUMMARY: On November 1, 2005, the Surface Transportation Board issued a Notice of Intent to prepare an Environmental Impact Statement (EIS), notice of availability of a draft Scope of Study for the EIS, notice of scoping meetings, and request for comments for the subject proceeding that contained an inadvertent error (see 70 FR 65976). The due date for comments was identified as January 13, 2005. The correct date is January 13, 2006. Please revise your copies accordingly.

Vernon A. Williams,
Secretary.

[FR Doc. 05-22321 Filed 11-8-05; 8:45 am]

BILLING CODE 4915-00-P